DEPARTMENT OF COMMERCE

National Oceanic and Atmospheric Administration

RIN 0648-XY32

Mid-Atlantic Fishery Management Council (MAFMC); Meeting

AGENCY: National Marine Fisheries Service (NMFS), National Oceanic and Atmospheric Administration (NOAA), Commerce.

ACTION: Notice of public meeting.

SUMMARY: The Mid-Atlantic Fishery Management Council's Visioning Project Committee will hold a meeting to begin development of the Visioning Project.

DATES: The meeting will be held Thursday, September 9, 2010, from 10 a.m. to 5 p.m.

ADDRESSES: The meeting will be held at the Four Points by Sheraton BWI Airport: 7032 Elm Road, Baltimore, MD 21240 (telephone: 410-859-3300).

Council address: Mid-Atlantic Fishery Management Council, 800 N. State Street, Suite 201, Dover, DE 19901; telephone: (302) 674-2331.

FOR FURTHER INFORMATION CONTACT: Dr. Christopher M. Moore, Executive Director, Mid-Atlantic Fishery Management Council, 800 N. State Street, Suite 201, Dover, DE 19901; telephone: (302) 526-5255.

SUPPLEMENTARY INFORMATION: The purpose of this meeting is to begin the development of the Council's Visioning Project. The discussion will include the purpose and scope of the project as well as possible identification of specific project goals. The initial purpose of the project is to identify stakeholders' views on the management approaches currently used by the Council such that the Council could then use the project's results to develop future management actions.

Special Accommodations

The meeting is physically accessible to people with disabilities. Requests for sign language interpretation or other auxiliary aids should be directed to M. Jan Saunders at the Mid-Atlantic Council Office (302) 526-5251 at least five days prior to the meeting date.

Dated: August 17, 2010.
William D. Chappell,
Acting Director, Office of Sustainable Fisheries, National Marine Fisheries Service.

[FR Doc. 2010-20748 Filed 8-19-10; 8:45 am]

BILLING CODE 3510-22-S